SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested members of the public an additional 30 days to provide comments on the proposed collection of information.

DATES: Submit comments on or before April 2, 2021.

ADDRESSES: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number.

FOR FURTHER INFORMATION CONTACT: You may obtain a copy of the information collection and supporting documents from the Agency Clearance Office at Curtis.Rich@sba.gov; (202) 205-7030, or from www.reginfo.gov/public/do/PRAMain.

SUPPLEMENTARY INFORMATION: Applicants for SBA-guaranteed leverage commitments must complete these forms as part of the application process. SBA uses the information to make informed and proper credit decisions and to establish the SBIC's eligibility for leverage and need for funds.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

OMB Control Number: 3245-0081.

Title: Form 25 LLGP Model Limited Liability General Partner Certificate, Form 25 PCGP Model Resolution SBIC organized as Corporate General Partnership, Form 25 PC Model Resolution SBIC organized as Corporation, Form 33 Instructions for the Authorization to Disburse Proceeds, Form 34 Bank Identification, Form 1065 Applicant Licensee's Assurance of Compliance for the Public Interest.

SBA Form Number: SBA Forms 25 LLGP, 25 PCGP, 25 PC, 33, 34, 1065.

Description of Respondents: Eligible SBICs.

Estimated Number of Respondents: 60.

Estimated Annual Responses: 60.

Estimated Annual Hour Burden: 41.

Curtis Rich,
Management Analyst.

[FR Doc. 2021-04314 Filed 3-2-21; 8:45 am]

BILLING CODE 8026-03-P